DEPARTMENT OF THE INTERIOR

National Park Service

Notice of Inventory Completion: U.S. Department of Defense, Army Corps of Engineers, Walla Walla District, Walla Walla, WA and Museum of Anthropology, Washington State University, Pullman, WA

AGENCY: National Park Service, Interior.

ACTION: Notice.

Notice is here given in accordance with the Native American Graves Protection and Repatriation Act (NAGPRA), 25 U.S.C. 3003, of the completion of an inventory of human remains and associated funerary objects in the control of the U.S. Department of Defense, Army Corps of Engineers, Walla Walla District, Walla Walla, WA, and in the physical custody of the Museum of Anthropology, Washington State University, Pullman, WA. The human remains and associated funerary objects were removed from site 45FR50, Marmes Rockshelter, Franklin County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by the U.S. Department of Defense, Army Corps of Engineers professional staff in consultation with representatives of the Confederated Tribes of the Colville Reservation, Washington; Confederated Tribes of the Umatilla Indian Reservation, Oregon; Confederated Tribes and Bands of the Yakama Nation, Washington; Nez Perce Tribe, Idaho; and the Wanapum Band, a non-Federally recognized Indian group.

Between 1962 and 1968, human remains were removed from site 45FR50, Marmes Rockshelter, in Franklin County, WA, by Washington State University, first under contract with the National Park Service and then under contract with the Army Corps of Engineers. The earliest excavations (1962-1964) focused on the area within the rockshelter proper with specific emphasis placed on the excavation of human remains features within that area. From 1965 to 1968, efforts focused on excavation of the floodplain and the remaining areas within the rockshelter, including a cremation hearth.

The human remains and associated funerary objects from the earliest excavations were designated as Burials 1 to 12, Burials 14 to 22, Small Unnumbered Cast, Rice Burial 05, MCX 1, Feature 64-6, and non-cremation rockshelter remains. No known individuals were identified. These human remains totaled a minimum of 45 individuals and 2,047 associated funerary objects (2,020 counted items and 27 lots of items), which were described in a Notice of Inventory Completion in the Federal Register (70 FR 42100-42102, August 20, 2009), and repatriated to the claimant tribes in September 2009.

Human remains from the cremation hearth were originally recorded as Burial 23 and the human remains from the floodplain were originally recorded as Marmes I, II, III, and IV. Army Corps of Engineers professional staff have determined that human remains representing a minimum of eight individuals were excavated from the cremation hearth area (to include all remains designated as Burial 23 and/or within the boundaries of the defined cremation hearth provenience), and that human remains representing a minimum of four individuals were excavated from the floodplain (to include all remains designated as Marmes I to IV and/or from a floodplain provenience). No known individuals were identified. The associated funerary objects from the cremation area total 1,581 counted items and 78 lots or samples of weighed items (98,125 grams). The 1,581 counted items are 78 faunal bone fragments, 1,326 pieces of mammal bone, 9 fish bones, 5 pieces of bird bone, 114 pieces of charcoal, 5 olivella shell beads, 43 basalt and cryptocrystalline/chert tools, and 1 piece of fire cracked rock. The 78 lots or samples are 43 weighed lots of mammal bone (2,564 grams), 2 lots weighed fish bone (0.003 grams), 2 bags with ash residue (15,150 grams), and 31 charcoal samples (80,411 grams). The 26 associated funerary objects from the floodplain area are 23 animal bone fragments and 3 bone rods.

In addition to the human remains removed from the cremation hearth and floodplain, a total of 513 counted human fragments and 1 small bag of human bone fragments are located in the Washington University 45FR50 archeological collections for which there is no specific burial or provenience information; therefore, these materials have been designated unprovenienced remains. The Army Corps of Engineers has determined that the unprovenienced human remains originated from the individuals described in the Notice of Inventory Completion published on August 20, 2009, or are those within the cremation hearth and from the floodplain described in this Notice. Therefore, these human bone fragments do not increase the minimum number of individuals in the August 20, 2009, Notice nor those recorded as cremation or floodplain in this Notice. Also in the Washington University 45FR50 archeological collections are 39 associated funerary objects found directly with these human remains. The 39 associated funerary objects are animal bone fragments.

The human remains from the cremation hearth, the floodplain, and the undesignated remains were determined to be Native American because of the physical traits exhibited by the remains and the cultural items found with them, which are similar both to the materials found in other areas of the site from which Native American human remains were identified and to materials from archeological collections and in context with Native American burials and cremations in southeastern Washington. The archeological materials at site 45FR50 have been variously classified into chronological and cultural phases, and include the Windust Phase (+11,000-8000 BP), Cascade Phase (8000-4500 BP), Tucannon Phase (4500-2500 BP), and Harder Phase (2500-500 BP). The floodplain and cremation remains date from the earliest period, or the Windust Phase. The majority of the human remains from the rockshelter described in the Notice of August 20, 2009, date to the later phases, beginning with the Cascade.

Archeological evidence provides the most direct line of evidence supporting affiliation between an earlier group and a present-day Indian tribe. The evidence found at site 45FR50, and in nearby archeological sites, supports a nearly continuous occupation of this region of the Columbia Plateau beginning as far back as 11,500 years. The archeological assemblage of site 45FR50 represents a long sequence of cultural occupation. Archeological and geological connections at the site can be drawn both horizontally across the site, from the rockshelter to the floodplain and across the floodplain, and also vertically, from the earlier deposits to the later deposits. Cultural continuity from the earliest to latest occupations within the site can be traced through the changes in the use of subsistence resources (marine and other) and the gradual changes in lithic assemblages.

Geographical and anthropological lines of evidence support the archeological evidence of earlier group habitation in the same geographic location as the historic groups. Anthropologically, evidence for continuity includes the presence of red ochre and olivella shells in the earliest Windust deposits, continuing into later deposits and found in the later burials. An articulated owl foot artifact was recovered from the Windust Phase in the floodplain, and the importance of the owl in southern Plateau Native American culture is well-documented. Oral tradition evidence provided by tribal elders indicates a large Palus village, which had been inhabited by tribal ancestors from time immemorial, was once located near the Marmes Rockshelter. According to tribal elders, their ancestors were mobile and traveled the landscape to gather resources, as well as to trade.

Ethnographic documentation indicates that the present-day location of the Marmes Rockshelter in Franklin County, WA, is within the territory occupied historically by the Palus (Palouse) Indians. During the historic period, the Palouse people settled along the Snake River; relied on fish, game, and root resources for subsistence; shared their resource areas and maintained extensive kinship connections with other groups in the area; and had limited political integration until the adoption of the horse (Walker 1998). These characteristics are common to the greater Plateau cultural communities surrounding the Palouse territory including the Nez Perce, Cayuse, Walla Walla, Yakama, and Wanapum groups. Moreover, information provided during consultation by representatives of the Confederated Tribes of the Colville Reservation, Washington; Confederated Tribes of the Umatilla Indian Reservation, Oregon; Confederated Tribes and Bands of the Yakama Nation, Washington; Nez Perce Tribe, Idaho; and the Wanapum Band, a non-Federally recognized Indian group, substantiate shared past and present traditional lifeways that bind the aforementioned Indian tribes and the Wanapum Band to common ancestors. The descendants of these Plateau communities of southeastern Washington are now widely dispersed and are members of the Confederated Tribes of the Colville Reservation, Washington; Confederated Tribes of the Umatilla Indian Reservation, Oregon; Confederated Tribes and Bands of the Yakama Nation, Washington; Nez Perce Tribe, Idaho; and the Wanapum Band, a non-Federally recognized Indian group.

Officials of the U.S. Department of Defense, Army Corps of Engineers, Walla Walla District, have determined that, pursuant to 25 U.S.C. 3001(9), the human remains described above represent the physical remains of 12 individuals of Native American ancestry. Officials of the U.S. Department of Defense, Army Corps of Engineers, Walla Walla District, also have determined that, pursuant to 25 U.S.C. 3001(3)(A), the 1,724 objects, which are 1,646 individual objects and 98,125 grams of material in 78 lots or samples, described above are reasonably believed to have been placed with or near individual human remains at the time of death or later as part of the death rite or ceremony. Furthermore, officials of the U.S. Department of Defense, Army Corps of Engineers, Walla Walla District, have determined that, pursuant to 25 U.S.C. 3001(2), there is a relationship of shared group identity that can be reasonably traced between the Native American human remains and associated funerary objects and the Confederated Tribes of the Colville Reservation, Washington; Confederated Tribes of the Umatilla Indian Reservation, Oregon; Confederated Tribes and Bands of the Yakama Nation, Washington; and Nez Perce Tribe, Idaho. Lastly, officials of the U.S. Department of Defense, Army Corps of Engineers, Walla Walla District, have determined that there is a cultural relationship between the Native American human remains and associated funerary objects and the Wanapum Band, a non-Federally recognized Indian group.

Representatives of any other Indian tribe that believes itself to be culturally affiliated with the human remains and/or associated funerary objects should contact LTC Michael Farrell, U.S. Department of Defense, Army Corps of Engineers, Walla Walla District, 201 North Third Ave., Walla Walla, WA 99362-1876, telephone (509) 527-7700, before June 14, 2010. Repatriation of the human remains and associated funerary objects to the Confederated Tribes of the Colville Reservation, Washington; Confederated Tribes of the Umatilla Indian Reservation, Oregon; Confederated Tribes and Bands of the Yakama Nation, Washington; and Nez Perce Tribe, Idaho, may proceed after that date if no additional claimants come forward. The U.S. Department of Defense, Army Corps of Engineers, Walla Walla District recognizes the participation of the Wanapum Band, a non-Federally recognized Indian group, during the transfer of the human remains and associated funerary objects to the Indian tribes.

The U.S. Department of Defense, Army Corps of Engineers, Walla Walla District, is responsible for notifying the Confederated Tribes of the Colville Reservation, Washington; Confederated Tribes of the Umatilla Indian Reservation, Oregon; Confederated Tribes and Bands of the Yakama Nation, Washington; Nez Perce Tribe, Idaho; and the Wanapum Band, a non-Federally recognized Indian group, that this notice has been published.

Dated: May 4, 2010.
Sherry Hutt,
Manager, National NAGPRA Program.

[FR Doc. 2010-11456 Filed 5-12-10; 8:45 am]

BILLING CODE 4312-50-S